DEPARTMENT OF JUSTICE

Notice of Lodging of Settlement Agreement Under the Comprehensive Environmental Response, Compensation, and Liability Act (CERCLA)

Notice is hereby given that on June 25, 2009, a proposed Consent Decree was filed with the United States District Court for the Eastern District of Pennsylvania in United States and The Commonwealth of Pennsylvania Department of Environmental Protection v. George R. Rubright and Mary Lou Rubright, Case No. 5:09-cv-2853 (E.D. Pa.). The proposed consent decree resolves cost recovery claims asserted by the U.S. Environmental Protection Agency (“EPA”) under the Comprehensive Environmental Response Compensation and Liability Act (“CERCLA”) Section 107(a), 42 U.S.C. 9607(a), and by the Commonwealth of Pennsylvania Department of Environmental Protection (“PADEP”) under the Pennsylvania Hazardous Sites Cleanup Act, 35 P.S. 6020, against George R. Rubright and Mary Lou Rubright for costs incurred in connection with the Water Street Battery Site (the “Site”) located in Shoemakersville, Berks County, Pennsylvania.

The United States and the Commonwealth incurred about $1,326,649.99 in response costs to address lead contamination at the Site that resulted from using crushed battery casings as fill material. The Defendants agree to pay $484,000 to the United States, to settle EPA's claims, and $1,000 to the Commonwealth, to settle PADEP's claims.

For thirty (30) days after the date of this publication, the Department of Justice will receive comments relating to the Settlement Agreement. Comments should be addressed to the Assistant Attorney General, Environment and Natural Resources Division, and either e-mailed to pubcomment-ees.enrd@usdoj.gov or mailed to P.O. Box 7611, U.S. Department of Justice, Washington, DC 20044-7611. In either case, comments should refer to United States and The Commonwealth of Pennsylvania Department of Environmental Protection v. George R. Rubright and Mary Lou Rubright (E.D. Pa.), D.J. Ref. No. 90-11-3-08686.

The proposed Settlement Agreement may be examined at the Office of the United States Attorney for the Eastern District of Pennsylvania, 615 Chestnut Street, Suite 1250, Philadelphia, Pennsylvania 19106, and at the office of the Environmental Protection Agency Region 3, 1650 Arch Street, Philadelphia, PA 19103. During the comment period, the proposed Settlement Agreement may also be examined on the following Department of Justice Web site: http://www.usdoj.gov/enrd/Consent_Decree.html. A copy of the proposed Settlement Agreement may also be obtained by mail from the Department of Justice Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $8.00 for the Settlement Agreement (25 cents per page reproduction costs) payable to the United States Treasury or, if by e-mail or fax, forward a check in that amount to the Consent Decree Library at the stated address.

Maureen Katz,
Assistant Section Chief, Environmental Enforcement Section, Environment and Natural Resources Division.

[FR Doc. E9-15494 Filed 6-30-09; 8:45 am]

BILLING CODE 4410-15-P